DEPARTMENT OF HOUSING AND URBAN DEVELOPMENT

[Docket No. FR-5600-FA-17]

Announcement of Funding Awards for Fiscal Year 2012 Transformation Initiative: Choice Neighborhoods Demonstration Small Research Grant Program

AGENCY: Office of the Assistant Secretary for Policy Development and Research, HUD.

ACTION: Announcement of funding awards.

SUMMARY: In accordance with Section 102(a)(4)(C) of the Department of Housing and Urban Development (HUD) Reform Act of 1989, Appendix A of this notice announces HUD's funding awards for the Fiscal Year (FY) 2012 Transformation Initiative: Choice Neighborhoods Demonstration Small Research Grant Program (“Choice research grants”).

FOR FURTHER INFORMATION CONTACT: Paul Joice, Office of Policy Development and Research, U.S. Department of Housing and Urban Development. Room 8120, 451 7th Street SW., Washington, DC 20410. Paul.A.Joice@hud.gov.

SUPPLEMENTARY INFORMATION: The purpose of the Choice research grants program is to fund research related to Choice Neighborhoods that complements other Choice Neighborhoods research being pursued by HUD. On January 19, 2012, HUD published the Notice of Funding Availability (NOFA) announcing $500,000 in funds available for the Choice research grants program. On February 22, 2012, HUD published a technical correction to the NOFA, to provide additional details about other HUD-funded research on Choice Neighborhoods. Applications were due on March 27, 2012. The Department reviewed, evaluated, and scored the applications received based on the criteria in the NOFA. As a result, and in accordance with Section 102(a)(4)(C) of the HUD Reform Act of 1989, HUD has funded the applications announced below.

Dated: May 29, 2012.
Raphael W. Bostic,
Assistant Secretary for Policy Development and Research.

Appendix A

List of Awardees for Grant Assistance Under the Fiscal Year 2012 Transformation Initiative: Choice Neighborhoods Demonstration Small Research Grants Program

1. Washington State Department of Social and Health Services (DSHS). Address: 1115 Washington Street SE., Olympia, WA 98504-5204. Principal Investigator: Martha Galvez. Grant: $198,027.

2. Portland State University (PSU). Address: PO Box 751, Portland, OR 97207-0751. Principal Investigator: Matthew Gebhardt. Grant: $76,948.

3. University of California—Berkeley (UC). Address: 2150 Shattuck Avenue, Suite 300, Berkeley, CA 94794-5940. Co-Principal Investigators: Karen Chapple, Jason Corburn, and Malo Hutson. Grant: $131,148.

4. International City/County Management Association (ICMA). Address: 777 North Capitol Street NE., Suite 500, Washington, DC 20002-4201. Principal Investigator: Ron Carlee. Grant: $93,877.

[FR Doc. 2012-13440 Filed 6-1-12; 8:45 am]

BILLING CODE 4210-67-P